DEPARTMENT OF JUSTICE

Antitrust Division

Notice Pursuant To The National Cooperative Research and Production Act of 1993—NuStart Energy Development, LLC

Notice is hereby given that, on July 19, 2004, pursuant to Section 6(a) of the National Cooperative Research and Production Act of 1993, 15 U.S.C. 4301 et seq. (“the Act”), NuStart Energy Development, LLC has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Southern Company Services, Birmingham, AL; EDF International North America, Inc., Washington, DC; Entergy Nuclear, Inc., Jackson, MS; Exelon Generation Company, LLC, Kennett Square, PA; Constellation Generation Company, LLC, Baltimore, MD; Duke Energy Corporation, Charlotte, NC; Progress Energy Service Company, LLC, Raleigh, NC; and Florida Power & Light Company, Juno Beach, FL. The venture has entered into certain contractual undertakings separately with Westinghouse Electric Company, Monroeville, PA and with General Electric Company, Fairfield, CT. Westinghouse Electric Company is wholly owned by British Nuclear Fuels plc, an English company. The nature and objectives of the venture are to submit a proposal to the United States Department of Energy's Solicitation DE-PS07-04ID-14435, and if the proposal is accepted, implement it. This Solicitation seeks proposals for a combined operating license demonstration, pursuant to 10 CFR, Part 52, Subpart C. Implementation of the proposal, if accepted, will require negotiating, entering into and implementing an agreement (“Agreement”) with the Department of Energy consistent with the proposal, and other contracts, subcontracts and actions as appropriate to implement the Agreement.

Membership in this venture remains open, and NuStart Energy Development, LLC will file additional written notification disclosing any changes in membership.

Dorothy B. Fountain,
Deputy Director of Operations, Antitrust Division.

[FR Doc. 04-18856 Filed 8-17-04; 8:45 am]

BILLING CODE 4410-11-M